DEPARTMENT OF THE INTERIOR

Bureau of Reclamation

Shasta Lake Water Resources Investigation, Shasta and Tehama Counties, CA

AGENCY: Bureau of Reclamation, Interior.

ACTION: Notice of Intent to prepare an Environmental Impact Statement (EIS) and notice of public scoping meetings.

SUMMARY: Pursuant to the National Environmental Policy Act (NEPA), the Bureau of Reclamation proposes to prepare an EIS for the Shasta Lake Water Resources Investigation (SLWRI). Authorization for the investigation comes from Pub. L. 96-375, 1980; which directs the Secretary of the Interior to engage in feasibility studies related to enlarging Shasta Dam and Reservoir. Other directing legislation includes Title 34 of Pub. L. 102-575, the Central Valley Project Improvement Act and Pub. L. 108-137, the Energy and Water Development Act. In addition, enlargement of Shasta Dam was identified in the CALFED Programmatic Environmental Impact Report/Statement and Record of Decision (ROD) and in Pub. L. 108-361, the CALFED Bay-Delta authority.

DATES: A series of public scoping meetings will be held to solicit public input on the scope of the environmental document, alternatives, concerns, and issues to be addressed in the EIS. The meeting dates are as follows:

• October 24, 2005, 10 a.m. to 1 p.m., Sacramento, CA.

• October 24, 2005, 6 to 9 p.m., Concord, CA.

• October 26, 2005, 1 to 4 p.m., Los Angeles, CA.

• November 1, 2005, 6 to 9 p.m., Fresno, CA.

• November 2, 2005, 6 to 9 p.m., Dunsmuir, CA.

• November 3, 2005, 6 to 9 p.m., Red Bluff, CA.

Submit written comments on or before December 6, 2005 to the address provided below.

ADDRESSES: The public scoping meeting locations are:

• Federal Building, 2800 Cottage Way, Rooms C-1001 and C-1002, Sacramento, CA.

• Heald Conference Center, 5130 Commercial Circle, Concord, CA.

• Metropolitan Water District of Southern California, 700 North Alameda Street Room 1-102, Los Angeles, CA.

• Piccadilly Inn, 2305 West Shaw Avenue, in Fresno, CA.

• Dunsmuir Community Building, 4835 Dunsmuir Avenue in Dunsmuir, CA.

• Red Bluff Community Center, Auditorium, 1500 South Jackson.

Written comments on the scope of the environmental document should be sent to: Ms. Sammie Cervantes, Bureau of Reclamation, 2800 Cottage Way, MP-700, Sacramento CA 95825.

FOR FURTHER INFORMATION CONTACT: Ms. Donna Garcia, Reclamation Project Manager, at the above address, at 916-978-5009, TDD 916-978-5608, or via fax at 916-978-5094 or e-mail at dgarcia@mp.usbr.gov. If special assistance is required, please contact Ms. Cervantes at 916-978-5189, TDD 916-978-5608, or via e-mail at scervantes@mp.usbr.gov no less than 5 working days prior to the meetings. Further information on the investigation, including interim results, can be found on the SLWRI Web site at http://www.usbr.gov/mp/slwri or through the above contact persons.

SUPPLEMENTARY INFORMATION: Constructed from 1938 to 1945, Shasta Dam serves multiple purposes including flood control, irrigation and municipal and industrial water supplies, and hydropower generation. In addition, Shasta Lake significantly contributes to the regional economy through extensive recreational activities.

Initial feasibility studies in partial response to Pub. L. 96-375 culminated in a 1988 Wrap-Up Report which concluded that enlarging Shasta Dam and Reservoir could significantly increase water supply reliability, if and when water demands warranted the required financing. The current feasibility scope study primarily involving enlargement of Shasta Dam and Reservoir was reinitiated in 2000. Raising Shasta Dam is one of five surface water storage projects identified in the August 2000 CALFED ROD which includes North of Delta Off-Stream Storage, In-Delta Storage, Los Vaqueros Enlargement, and Upper San Joaquin River Basin Storage Investigation. These surface water storage projects are being developed further in separate feasibility studies.

The primary study area for the SLWRI is Shasta Dam and Reservoir; tributary rivers and streams, including the upper reaches of the Sacramento River, McCloud River, Pit River, and Squaw Creek; and the Sacramento River downstream from Shasta Dam to about the Red Bluff Diversion Dam. Because of the potential influence of a Shasta Dam modification on natural resources along the Sacramento River and on programs and projects in the Central Valley, the extended study area includes other major tributaries to the Sacramento River, the Sacramento-San Joaquin Delta, San Joaquin River basin, and service areas of the Central Valley Project (CVP) and State Water Project (SWP).

Planning studies to date have focused on identifying water resources problems and needs in the primary study area, developing a set of planning objectives to help guide the remainder of the feasibility study, and formulating several initial alternatives. These three important elements of the study are summarized below.

Problems and Needs

Major water and related resources problems and needs identified in the primary study area include:

• Anadromous Fish Restoration: The population of Chinook salmon has declined in the Central Valley. To address this salmon decline in the Sacramento River, various actions have been taken, ranging from establishing minimum flow requirements in the river to making structural changes at Shasta Dam. However, a need still exists for additional actions to benefit anadromous fish, especially in dry and critically dry water years.

• Water Supply Reliability: Demand for water in California exceeds available supplies. As the population of the Central Valley grows, the need to maintain a healthy and vibrant industrial and agricultural economy will increase while the demand for an adequate water supply becomes more acute.

• Other Resource Needs: Other identified problems and needs include the need for environmental restoration in the Shasta Lake area and downstream along the Sacramento River; the need for additional flood control along the upper Sacramento River; and growing demands for new energy sources in California and outdoor recreation in the primary study area.

Planning Objectives

The Problems and Needs in the study area were translated into Primary and Secondary Planning Objectives.

• Primary Planning Objectives: Alternatives will be formulated to address the primary objectives. The primary objectives for the SLWRI are: (1) Increase the restoration of anadromous fish populations in the Sacramento River primarily upstream from the Red Bluff Diversion Dam and (2) increase water supplies and water supply reliability for agricultural, municipal and industrial, and environmental purposes to help meet future water demands, with a focus on enlarging Shasta Dam and Reservoir.

• Secondary Planning Objectives: Through pursuit of the primary planning objectives, the following secondary objectives will be met to the extent possible: (1) Preserve and restore ecosystem resources in the Shasta Lake area and along the upper Sacramento River, (2) reduce flood damages along the Sacramento River; (3) develop additional hydropower capabilities at Shasta Dam, and (4) preserve outdoor recreation opportunities at Shasta Lake.

Initial Alternatives

From the Planning Objectives and a resulting planning constraints and criteria, a number of water resources management measures were identified. The most effective of measures were used to formulate a set of concept plans from which five initial alternatives were developed. Specific measures and combinations of measures in these initial alternatives will likely change in future studies and some may be combined with others or dropped from further consideration. In addition, other measures and combination of measures may emerge and warrant development into alternatives during the scoping process. These five initial alternatives are summarized below.

• No-Action (No Federal Action): Under the No-Action Alternative, the Federal Government would take no action toward implementing a specific plan to help increase anadromous fish survival opportunities in the upper Sacramento River nor help address the growing water reliability issues in the Central Valley of California through the assistance of Shasta Dam and Reservoir.

• Increase Water Supply Reliability with Shasta Enlargement: The primary purpose of this initial alternative is to be consistent with the goals of the CALFED ROD, which focus on increasing CVP and SWP water supply reliability while contributing to increased anadromous fish survival. It includes raising Shasta Dam between 6.5 to 18.5 feet, which would increase storage space in Shasta Reservoir by 290,000 acre-feet and 640,000 acre-feet, respectively. The increased pool depth and volume also could contribute to incidental benefits for flood control, hydropower, and outdoor recreation.

• Increase Water Supply Reliability with Shasta Enlargement and Conjunctive Water Management: The primary purpose of this initial alternative is to increase CVP and SWP water supply reliability through a combination of enlargement of Shasta Dam and Reservoir and conjunctive water management, consistent with the goals of the CALFED ROD. This plan is similar to the above initial alternative and includes raising Shasta Dam up to about 18.5 feet. It also includes implementing a conjunctive water management component consisting primarily of contract agreements between Reclamation and Sacramento River basin water users.

• Increase Anadromous Fish Habitat and Water Supply Reliability with Shasta Enlargement: The primary purpose of this initial alternative is to address both primary objectives with a focus on increasing anadromous fish habitat and enlarging Shasta Reservoir up to about 18.5 feet. In addition to increasing the cold water pool in Shasta Lake, this alternative includes restoring inactive gravel mines along the Sacramento River to help benefit anadromous fish.

• Multipurpose with Shasta Enlargement: This initial alternative also consists of raising Shasta Dam up to about 18.5 feet. In addition, to address the primary objectives, it includes conjunctive water management and restoring inactive gravel mines and floodplain habitat along the upper Sacramento River. Features that address the secondary objectives include constructing warm water fish habitat in the Shasta Lake area, restoring one or more riparian habitat areas between Redding and Red Bluff on the Sacramento River, and possibly re-operating Shasta Dam for increased flood control.

These and other possible alternatives will be considered and developed through comments received during the scoping process. During scoping, Reclamation will be seeking input about possible methods for evaluating water management that will meet the identified water resources problems and needs consistent with the planning objectives.

Written comments, including names and home addresses of respondents, will be made available for public review. Individual respondents may request that their home address be withheld from public disclosure, which will be honored to the extent allowable by law. There may be circumstances in which respondents' identity may also be withheld from public disclosure, as allowable by law. If you wish to have your name and/or address withheld, you must state this prominently at the beginning of your comment. All submissions from organizations or businesses, and from individuals identifying themselves as representatives or officials of organizations or businesses, will be made available for public disclosure in their entirety.

Dated: August 26, 2005.
Michael Nepstad,
Deputy Regional Environmental Officer, Mid-Pacific Region.

[FR Doc. 05-20169 Filed 10-6-05; 8:45 am]

BILLING CODE 4310-MN-P